DEPARTMENT OF AGRICULTURE

Natural Resources Conservation Service

[Docket No. NRCS-2012-0004]

Notice of Proposed Changes to the National Handbook of Conservation Practices for the Natural Resources Conservation Service

AGENCY: Natural Resources Conservation Service (NRCS), USDA.

ACTION: Notice of availability of proposed changes in the NRCS National Handbook of Conservation Practices for public review and comment.

SUMMARY: Notice is hereby given of the intention of NRCS to issue a series of revised conservation practice standards in the National Handbook of Conservation Practices. These standards include: Amendments for the Treatment of Agricultural Waste (Code 591), Building Envelope Improvement (Code 672), Fence (Code 382), Lighting System Improvement (Code 670), Recreation Land Grading and Shaping (Code 566), Row Arrangement (Code 557), Sprinkler System (Code 442), Tree/Shrub Site Preparation (Code 490), Waste Separation Facility (Code 632), Waste Treatment (Code 629), Watering Facility (Code 614), and Waterspreading (Code 640).

NRCS State Conservationists who choose to adopt these practices for use within their States will incorporate them into section IV of their respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective December 14, 2012.

Comment Date: Submit comments on or before January 14, 2013. Final versions of these new or revised conservation practice standards will be adopted after the close of the 30-day period, and after consideration of all comments.

ADDRESSES: Comments should be submitted, identified by Docket Number NRCS-2012-0004, using any of the following methods:

• Federal eRulemaking Portal: http://www.regulations.gov. Follow the instructions for submitting comments.

• Email: Public.comments@wdc.usda.gov. Include Docket Number NRCS-2012-0004 or “comment on practice standards” in the subject line of the message.

• Mail: Comment Submissions, Attention: Verna Jones, Policy Analyst, Resource Economics, Analysis and Policy Division, Department of Agriculture, Natural Resources Conservation Service, George Washington Carver Center, 5601 Sunnyside Ave, Room 1-1112C, Beltsville, Maryland 20705.

All comments received will become a matter of public record and will be posted without change to http://www.regulations.gov including any personal information provided.

FOR FURTHER INFORMATION CONTACT: Wayne Bogovich, National Agricultural Engineer, Conservation Engineering Division, Department of Agriculture, Natural Resources Conservation Service, 1400 Independence Avenue SW., Room 6136 South Building, Washington, DC 20250.

Electronic copies of these standards can be downloaded or printed from the following Web site: ftp://ftp-fc.sc.egov.usda.gov/NHQ/practice-standards/federal-register/. Requests for paper versions or inquiries may be directed to Wayne Bogovich, National Agricultural Engineer, Conservation Engineering Division, Department of Agriculture, Natural Resources Conservation Service, 1400 Independence Avenue SW., Room 6136 South Building, Washington, DC 20250.

SUPPLEMENTARY INFORMATION: The amount of the proposed changes varies considerably for each of the conservation practice standards addressed in this notice. To fully understand the proposed changes, individuals are encouraged to compare these changes with each standard's current version as shown at: http://www.nrcs.usda.gov/technical/Standards/nhcp.html. To aid in this comparison, following are highlights of the proposed revisions to each standard:

Amendments for the Treatment of Agricultural Waste (Code 591)—An additional purpose to reduce risk associated with the spread and contamination of pathogens was added. A subsection on system effects was added to limit the use of amendments to situations where the impacts of the altered waste stream on other parts of the manure management system have been identified and to assure that land application of treated manure would comply with the requirements of Conservation Practice Standard 590, Nutrient Management. Other minor changes were made for style and clarity that did not change the technical substance of the standard.

Building Envelope Improvement (Code 672)—This is a new conservation practice standard for modification or retrofit of the building envelope of an existing agricultural structure.

Fence (Code 382)—Wildlife needs are now included under general criteria, being moved from the considerations section. This will ensure all fence design and placement is made with knowledge of potential impacts to local wildlife.

Lighting System Improvement (Code 670)—This is a new conservation practice standard for complete replacement or retrofitting of one or more components of an existing agricultural lighting system.

Recreation Land Grading and Shaping (Code 566)—There were minor changes to wording with changes to active voice and references added.

Row Arrangement (Code 557)—Added wording to Definition to be consistent with purpose, minor changes to wording with changes to active voice, and added references.

Sprinkler System (Code 442)—Changed name from “Irrigation System, Sprinkler” to “Sprinkler” to make the standard more applicable to other conservation measures that use sprinklers as part of solution (i.e., dust control). Other changes include shortening the section on center pivots and adding criteria for purposes other than irrigation.

Tree/Shrub Site Preparation (Code 490)—Only minor changes were made to the standard including editorial changes to the second purpose and the general criteria to improve clarity. Pest management issues are referred to the current Pest Management policy.

Waste Separation Facility (Code 632)—The name changed from Solid/Liquid Waste Separation Facility to Waste Separation Facility. Two purposes were removed and one was added to address manure handling. Additional separation methods (not inclusive) were added to the separation efficiency table. The practice will allow solid/solid separation such as poultry litter screening. Two new criteria sections were developed for Sand Separation and Reuse.

Waste Treatment (Code 629)—The conditions where practice applies was shortened and made more generic. A subsection on utilities was added to make the standard more consistent with other practice standards that could involve construction activities. The requirement for a minimum practice life of 10 years was removed from the standard. Other minor changes were made for style and clarity that did not change the technical substance of the standard.

Watering Facility (Code 614)—The definition was modified to include watering ramps since the purpose of a watering ramp is to provide a watering facility for livestock and wildlife. Additional criteria for the use of tanks for water storage were added.

Waterspreading (Code 640)—Reworded purpose to be more in line with the new resource concerns. Other changes consist of cleaning up language in criteria and considerations section.

Signed this 15th day of November 2012, in Washington, DC.
Dave White,
Chief, Natural Resources Conservation Service.

[FR Doc. 2012-30158 Filed 12-13-12; 8:45 am]

BILLING CODE 3410-16-P